ENVIRONMENTAL PROTECTION AGENCY

[FRL-9242-1]

Public Water System Supervision Program Approval for the State of Wisconsin

AGENCY: Environmental Protection Agency (EPA).

ACTION: Notice of tentative approval.

SUMMARY: Notice is hereby given that the State of Wisconsin submitted a primacy application for its approved Public Water System Supervision Program. Wisconsin is applying its Interim Enhanced Surface Water Treatment Regulations to all Wisconsin water systems that use surface water and ground water under the influence of surface water as a source, thereby satisfying the requirements of the Long-Term 1 Enhanced Surface Water Treatment Rule.

EPA has determined that the State regulations and procedures submitted by the State to EPA for review are no less stringent than the corresponding Federal regulations. Therefore, EPA intends to award primacy to Wisconsin for Long-Term 1 Enhanced Surface Water Treatment Rule implementation. This approval action does not extend to public water systems (PWSs) in Indian Country, as the term is defined in 18 U.S.C. 1151. By approving these rules, EPA does not intend to affect the rights of Federally recognized Indian Tribes in Wisconsin, nor does it intend to limit existing rights of the State of Wisconsin. Any interested party may request a public hearing. A request for a public hearing must be submitted by January 21, 2011, to the Regional Administrator at the EPA Region 5 address shown below. The Regional Administrator may deny frivolous or insubstantial requests for a hearing. However, if a substantial request for a public hearing is made by January 21, 2011, EPA Region 5 will hold a public hearing. If EPA Region 5 does not receive a timely and appropriate request for a hearing and the Regional Administrator does not elect to hold a hearing on his own motion, this determination shall become final and effective on January 21, 2011. Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection at the following offices: Wisconsin Department of Natural Resources, Bureau of Drinking Water and Groundwater, 5th Floor, 101 S. Webster Street, Madison, Wisconsin, between the hours of 7:45 a.m. and 4:30 p.m., Monday through Friday, and the United States Environmental Protection Agency, Region 5, Ground Water and Drinking Water Branch (WG-15J), 77 West Jackson Boulevard, Chicago, Illinois 60604, between the hours of 9 a.m. and 4:30 p.m., Monday through Friday.

FOR FURTHER INFORMATION CONTACT: Joseph Janczy, EPA Region 5, Ground Water and Drinking Water Branch, at the address given above, by telephone at (608) 267-2763, or at janczy.joseph@epa.gov.

Authority: Section 1413 of the Safe Drinking Water Act, as amended, 42 U.S.C. 3006-2 (1996), and 40 CFR part 142 of the National Primary Drinking Water Regulations.

Dated: November 29, 2010.
Susan Hedman,
Regional Administrator, Region 5.

[FR Doc. 2010-32137 Filed 12-21-10; 8:45 am]

BILLING CODE 6560-50-P